GOVERNMENT PUBLISHING OFFICE

Depository Library Council to the Acting Deputy Director Meeting

The Depository Library Council (DLC) to the Acting Deputy Director, Government Publishing Office (GPO) will meet on Monday, October 21, 2019 through Wednesday, October 23, 2019 in Arlington, Virginia. The sessions will take place from 8:00 a.m. to 5:30 p.m., Monday and Tuesday and 8:00 a.m. to 12:00 p.m., on Wednesday. The meeting will be held at the Doubletree Hotel, 300 Army Navy Drive, Arlington, Virginia. The purpose of this meeting is to discuss the Federal Depository Library Program. All sessions are open to the public. The United States Government Publishing Office is in compliance with the requirements of Title III of the Americans with Disabilities Act and meets all Fire Safety Act regulations.

John W. Crawford,
Acting Deputy Director, U.S. Government Publishing Office.

[FR Doc. 2019-20103 Filed 9-16-19; 8:45 am]

BILLING CODE 1520-01-P